FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 11, 2015.

A. Federal Reserve Bank of Kansas City (Dennis Denney, Assistant Vice President) 1 Memorial Drive, Kansas City, Missouri 64198-0001:

1. William H. Croak, Sherri L. Croak, John R. Croak, Heather M. Croak, Shelly Croak Yocham, and Tobin N. Yocham, all of Oklahoma City, Oklahoma, either individually and/or as Co-Trustees of the Croak Family Holdings Trust under agreement dated effective July 1, 2015, of Midwest City, Oklahoma, and the John R. and Heather M. Croak Family Trust dated June 30, 2005, the William H. and Sherri L. Croak Family Trust dated June 30, 2005, and the Tobin N. & Shelly Croak Yocham Family Trust dated October 1, 2015, all of Oklahoma City, Oklahoma, all as members of the Croak family control group acting in concert; to acquire voting shares of First Midwest Acquisition Corporation, and thereby indirectly acquire voting shares of FNB Community Bank, both in Midwest City, Oklahoma, and FinancePoint, Inc., Del City, Oklahoma.

Board of Governors of the Federal Reserve System, November 20, 2015.
Michael J. Lewandowski,
Associate Secretary of the Board.

[FR Doc. 2015-29999 Filed 11-24-15; 8:45 am]

BILLING CODE 6210-01-P